DEPARTMENT OF TRANSPORTATION

Federal Aviation Administration

14 CFR Part 39

[Docket No. 2003-NM-277-AD; Amendment 39-13868; AD 2004-23-13]

RIN 2120-AA64

Airworthiness Directives; Airbus Model A330, A340-200, and A340-300 Series Airplanes

AGENCY: Federal Aviation Administration, DOT.

ACTION: Final rule.

SUMMARY: This amendment adopts a new airworthiness directive (AD); applicable to certain Airbus Model A330, A340-200, and A340-300 series airplanes; that requires inspecting the ram air turbine (RAT) actuator to determine its serial number; and re-identifying the RAT actuator, inspecting the RAT actuator to determine whether the rotary solenoids are in the correct position, and replacing the RAT actuator, as applicable. This action is necessary to prevent failure of the RAT actuator to deploy when necessary during flight, which could result in reduced controllability of the airplane. This action is intended to address the identified unsafe condition.

DATES: Effective December 21, 2004.

The incorporation by reference of certain publications listed in the regulations is approved by the Director of the Federal Register as of December 21, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION: A proposal to amend part 39 of the Federal Aviation Regulations (14 CFR part 39) to include an airworthiness directive (AD) that is applicable to certain Airbus Model A330, A340-200, and A340-300 series airplanes was published in the Federal Register on April 1, 2004 (69 FR 17109). That action proposed to require inspecting the ram air turbine actuator (RAT) to determine its serial number; and re-identifying the RAT actuator, inspecting the RAT actuator to determine whether the rotary solenoids are in the correct position, and replacing the RAT actuator, as applicable.

Comments

Interested persons have been afforded an opportunity to participate in the making of this amendment. Due consideration has been given to the comments received from a single commenter.

Request To Expand Applicability To Include Additional Models

The commenter, the airplane manufacturer, notes that French airworthiness directive 2002-422(B) R1, dated January 22, 2003, applies to Airbus Model A330-201, -202, -203, -223, -243, -301, -321, -322, -323, -341, -342, and -343 airplanes, equipped with certain RAT modules. The commenter notes that the French airworthiness directive will have to be revised to apply to Airbus Model A330-302 and -303 airplanes when those airplanes are certificated.

We infer that the commenter is requesting that we revise the proposed AD to include the additional models. We do not concur. Airbus Model A330-302 and -303 airplanes are not certificated in the United States as of the preparation of this final rule. If these models are certificated in the United States in the future, we may consider rulemaking to require actions similar to those required by this AD on those airplanes, if necessary. We have made no change to this AD.

Request To Revise Compliance Time

The commenter notes that the proposed AD differs from French airworthiness directives 2002-422(B) R1 and 2002-423(B) R1, both dated January 22, 2003, in the compliance time for the one-time inspection to determine if the rotary solenoids are in the correct position. We infer that the commenter is referring to the fact that French airworthiness directives 2002-422(B) R1 and 2002-423(B) R1 require that this inspection be done “not later than August 31, 2004,” while the proposed AD specifies a compliance of 24 months after the effective date of the AD for the same action.

We infer that the commenter is requesting that we revise the compliance time to correspond to the compliance time in the French airworthiness directives for the inspection to determine if the rotary solenoids are in the correct position. We do not concur that a change is necessary. We express compliance times based on calendar dates (e.g., “before January 1, 1993”) only when engineering analysis establishes a direct relationship between the date and the compliance time. In this case, no direct relationship exists. We note that paragraph 3., “Compliance” of the French airworthiness directives states that “the following measures are rendered mandatory from the effective date of this AD at original issue.” The compliance time for the subject inspection in the French airworthiness directives, August 31, 2004, corresponds to 24 months after the effective date of the original issue of the French airworthiness directives (August 31, 2002). Thus, the compliance time of 24 months after the effective date of this AD for the inspection to determine whether the rotary solenoids are in the correct position, as stated in paragraph (c) of this AD, is consistent with the compliance time specified in the French airworthiness directives. We have made no change to this AD.

Conclusion

After careful review of the available data, including the comments noted above, we have determined that air safety and the public interest require the adoption of the rule as proposed.

Cost Impact

We estimate that 9 Model A330 series airplanes of U.S. registry will be affected by this AD, that it will take approximately 4 work hours per airplane to accomplish the required inspection, and that the average labor rate is $65 per work hour. Based on these figures, the cost impact of this AD on U.S. operators is estimated to be $2,340, or $260 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no affected Model A340-200 or -300 airplanes on the U.S. Register. However, if an affected airplane is imported and placed on the U.S. Register in the future, it will be subject to the same costs stated above for the Model A330 series airplanes.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-23-13 Airbus: Amendment 39-13868. Docket 2003-NM-277-AD.

Applicability: Model A330, A340-200, and 340-300 series airplanes; certificated in any category; equipped with a ram air turbine (RAT) module, Model ERPS06M, having part number (P/N) 766351, 768084, 770379, 770952, or 770952A; and containing RAT actuator P/N 5911905, 5911326, or 5913234.

Compliance: Required as indicated, unless accomplished previously.

To prevent failure of the RAT actuator to deploy when necessary during flight, which could result in reduced controllability of the airplane, accomplish the following:

Service Bulletin Reference

(a) The term “service bulletin,” as used in this AD, means the Accomplishment Instructions of the service bulletins listed in paragraphs (a)(1) and (a)(2) of this AD. Although these service bulletins specify returning removed actuators to Liebherr-Aerospace for inspection, this AD does not require this action.

(1) For Model A330 series airplanes: Airbus Service Bulletin A330-29-3083, dated August 6, 2002.

(2) For Model A340-200 and -300 series airplanes: Airbus Service Bulletin A340-29-4064, Revision 01, dated August 8, 2002.

Note 1: The service bulletins refer to Hamilton Sundstrand Service Bulletin ERPS06M-29-16, dated July 18, 2002; and Liebherr-Aerospace Service Bulletin 1560A-29-03, dated July 8, 2002; as additional sources of service information for identifying and inspecting subject RAT actuators, determining whether inspection findings are within acceptable limits, and re-identifying actuators if necessary. Although the Liebherr-Aerospace service bulletin specifies completing and returning a sheet recording compliance with that service bulletin and returning removed actuators for inspection, this AD does not require these actions.

Serial Number Inspection

(b) Within 24 months after the effective date of this AD, inspect the RAT actuator to determine its serial number (S/N), per the applicable service bulletin. If the RAT actuator has a S/N greater than 1286, re-identify the RAT actuator, per the applicable service bulletin.

Inspection To Determine Position of Rotary Solenoids

(c) If the RAT actuator has a S/N less than or equal to 1286: Within 24 months after the effective date of this AD, perform a one-time detailed inspection of the RAT actuator to determine whether the rotary solenoids are in the correct position, per the applicable service bulletin.

(1) If the position of the rotary solenoids is within the limits specified in the applicable service bulletin: Before further flight, re-identify the RAT actuator, per the applicable service bulletin.

(2) If the position of the rotary solenoids is outside the limits specified in the applicable service bulletin: Before further flight, replace the RAT actuator with a new or serviceable actuator, per the applicable service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Parts Installation

(d) As of the effective date of this AD, no person may install, on any airplane, a RAT actuator having P/N 5911905, 5911326, or 5913234, unless the actions required by this AD are accomplished.

Alternative Methods of Compliance

(e) In accordance with 14 CFR 39.19, the Manager, International Branch, ANM-116, Transport Airplane Directorate, FAA, is authorized to approve alternative methods of compliance for this AD.

Incorporation by Reference

(f) The actions shall be done in accordance with Airbus Service Bulletin A330-29-3083, dated August 6, 2002; or Airbus Service Bulletin A340-29-4064, Revision 01, dated August 8, 2002, as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in French airworthiness directives 2002-422(B) R1 and 2002-423(B) R1, both dated January 22, 2003.

Effective Date

(g) This amendment becomes effective on December 21, 2004.

Issued in Renton, Washington, on November 1, 2004.
Ali Bahrami,
Manager, Transport Airplane Directorate, Aircraft Certification Service.

[FR Doc. 04-25035 Filed 11-15-04; 8:45 am]

BILLING CODE 4910-13-U